DEPARTMENT OF COMMERCE

International Trade Administration

[A-570-970]

Multilayered Wood Flooring From the People's Republic of China: Preliminary Results of Antidumping Duty Administrative Review, Preliminary Determination of No Shipments, and Preliminary Partial Rescission of Antidumping Duty Administrative Review; 2014-2015

AGENCY: Enforcement and Compliance, International Trade Administration, Department of Commerce.

SUMMARY: The Department of Commerce (“the Department”) is conducting an administrative review of the antidumping duty order on multilayered wood flooring (“MLWF”) from the People's Republic of China (“PRC”). The period of review (“POR”) is December 1, 2014, through November 30, 2015. The review covers two mandatory respondents, Dalian Penghong Floor Products Co., Ltd. (“Penghong”) and Jiangsu Senmao Bamboo and Wood Industry Co., Ltd. (“Senmao”). We preliminarily find that both respondents made sales of subject merchandise at less than normal value (“NV”).

DATES: Effective December 27, 2016.

FOR FURTHER INFORMATION CONTACT: William Horn or Aleksandras Nakutis, AD/CVD Operations, Office IV, Enforcement & Compliance, International Trade Administration, Department of Commerce, 1401 Constitution Avenue NW., Washington, DC 20230; telephone: (202) 482-2615, and (202) 482-3147, respectively.

SUPPLEMENTARY INFORMATION:

Background

On December 8, 2011, the Department published in the Federal Register an antidumping duty order on wood flooring from the PRC.¹ On December 1, 2015, the Department published in the Federal Register a notice of opportunity to request an administrative review of the antidumping duty order on wood flooring from the PRC.² On December 30, 2015, and December 31, 2015, the Department received requests from 74 foreign and domestic interested parties for administrative reviews of wood flooring from the PRC. Additionally, on December 31, 2015, the Department received a request from the Coalition for American Hardwood Parity (“Petitioner”), petitioner in the underlying investigation, to conduct administrative reviews of numerous exporters/producers of wood flooring from the PRC, many of which were already the subject of review requests filed by other parties. On February 9, 2016, the Department published in the Federal Register a notice of initiation of an administrative review of the wood flooring order with respect to 111 companies for which a timely request for an administrative review of the applicable antidumping duty order was submitted.³ On March 3, 2016, the Department published in the Federal Register a Second Initiation Notice to correct an inadvertent misspelling of one company's name in the First Initiation Notice.⁴ Requesting parties have subsequently timely withdrawn all review requests for one company for which the Department initiated a review, as discussed below.

¹ See Multilayered Wood Flooring from the People's Republic of China: Notice of Amended Final Affirmative Determination of Sales at Less than Fair Value and Antidumping Duty Order, 76 FR 76690 (December 8, 2011), as amended Multilayered Wood Flooring from the People's Republic of China, 77 FR 5484 (February 3, 2012) (amended AD and CVD orders).

² See Antidumping or Countervailing Duty Order, Finding, or Suspended Investigation; Opportunity to Request Administrative Review, 80 FR 75058 (December 1, 2015).

³ Initiation of Antidumping and Countervailing Duty Administrative Reviews, 81 FR 6832, 6835-37 (February 9, 2016) (“First Initiation Notice”).

⁴ Initiation of Antidumping and Countervailing Duty Administrative Reviews, 81 FR 11179, 11182 (March 3, 2016) (“Second Initiation Notice”).

Scope of the Order

The merchandise covered by the order includes MLWF, subject to certain exceptions.⁵ Imports of the subject merchandise are provided for under the following subheadings of the Harmonized Tariff Schedule of the United States (“HTSUS”): 4412.31.0520; 4412.31.0540; 4412.31.0560; 4412.31.2510; 4412.31.2520; 4412.31.3175; 4412.31.4040; 4412.31.4050; 4412.31.4060; 4412.31.4070; 4412.31.4075; 4412.31.4080; 4412.31.5125; 4412.31.5135; 4412.31.5155; 4412.31.5165; 4412.31.5175; 4412.31.6000; 4412.31.9100; 4412.32.0520; 4412.32.0540; 4412.32.0560; 4412.32.0565; 4412.32.0570; 4412.32.2510; 4412.32.2520; 4412.32.2525; 4412.32.2530; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; 4418.72.9500; and 9801.00.2500.

⁵ See Memorandum from Christian Marsh, Deputy Assistant Secretary for Antidumping and Countervailing Duty Operations to Paul Piquado, Assistant Secretary for Enforcement and Compliance, regarding “Decision Memorandum for Preliminary Results of Antidumping Duty Administrative Review, Preliminary Determination of No Shipments, and Preliminary Partial Rescission of Antidumping Duty Administrative Review; 2014-2016,” (“Preliminary Decision Memorandum”), issued and dated concurrently with this notice, for a complete description of the Scope of the Order.

While HTSUS subheadings are provided for convenience and customs purposes, the written description of the subject merchandise is dispositive.

Tolling of Deadline of Preliminary Results of Review/Extension of Deadlines for Preliminary Results

As explained in the memorandum from the Acting Assistant Secretary for Enforcement and Compliance, the Department exercised its discretion to toll all administrative deadlines due to the closure of the Federal Government between January 22 and January 26, 2016. All deadlines in this segment of the proceeding were extended by four business days.⁶ On August 11, 2016, the Department extended the time period for issuing the preliminary results of this review until November 30, 2016.⁷ On November 17, 2016 the Department extended the time period for issuing the preliminary results of this review again, until December 20, 2016.⁸

⁶ See Memorandum to the Record from Ron Lorentzen, Acting Assistant Secretary for Enforcement and Compliance, “Tolling of Administrative Deadlines as a Result of the Government Closure During Snowstorm Jonas” (January 27, 2016).

⁷ See Memorandum to Christian Marsh, Deputy Assistant Secretary for Antidumping and Countervailing Duty Operations, through Abdelali Elouaradia, Office Director, Antidumping and Countervailing Duty Operations, Office IV, regarding, “Multilayered Wood Flooring from the People's Republic of China: Extension of Deadline for Preliminary Results of Antidumping Duty Administrative Review,” dated August 11, 2016.

⁸ See Memorandum to Christian Marsh, Deputy Assistant Secretary for Antidumping and Countervailing Duty Operations, through Abdelali Elouaradia, Office Director, Antidumping and Countervailing Duty Operations, Office IV, regarding, “Multilayered Wood Flooring from the People's Republic of China: Extension of Deadline for Preliminary Results of Antidumping Duty Administrative Review,” dated November 17, 2016.

Methodology

The Department has conducted this review in accordance with section 751(a)(1)(B) of the Tariff Act of 1930, as amended (“the Act”). Export prices and constructed export prices have been calculated in accordance with section 772 of the Act. Because the PRC is a non-market economy (“NME”) within the meaning of section 771(18) of the Act, normal value (“NV”) has been calculated in accordance with section 773(c) of the Act.

For a full description of the methodology underlying our conclusions, please see the Preliminary Decision Memorandum, hereby adopted by this notice.⁹ The Preliminary Decision Memorandum is a public document and is on file electronically via Enforcement and Compliance's Antidumping and Countervailing Duty Centralized Electronic Service System (“ACCESS”). ACCESS is available to registered users at http://access.trade.gov. The Preliminary Decision Memorandum is also available in the Central Records Unit, Room B8024 of the main Department of Commerce building. In addition, a complete version of the Preliminary Decision Memorandum can be accessed directly at http://enforcement.trade.gov/frn/index.html. The signed Preliminary Decision Memorandum and the electronic versions of the Preliminary Decision Memorandum are identical in content.

⁹ A list of topics discussed in the Preliminary Decision Memorandum is provided in the Appendix to this notice.

Affiliation and Collapsing

Based on evidence presented in Penghong's questionnaire responses and a collapsing/single entity memorandum from a prior segment of this proceeding which is on the record of this review,¹⁰ the Department preliminarily finds that: (1) Penghong is affiliated with both a certain glue producer and a certain wood processor within the meaning of sections 771(33)(A), (F), and (G) of the Act; and (2) that Penghong and Dalian Shumaike Floor Manufacturing Co., Ltd. (“Shumaike”) are affiliated within the meaning of section 773(33)(F) of the Act. Additionally, we are preliminarily treating Penghong and Shumaike as a single entity for antidumping duty purposes, within the meaning of 19 CFR 351.401(f), because we continue to find that those two affiliated companies have a high level of common ownership, production facilities for similar or identical products that would not require substantial retooling to restructure manufacturing priorities, and that there is a significant potential for manipulation of price or production.¹¹

¹⁰ See Dalian Penghong Floor Products Co., Ltd., Preliminary Affiliation and Single Entity Memorandum dated December 31, 2015 (ACCESS barcode: 3479741-02 on the record of this review) (“AR3 Affiliation memo”).

¹¹ See “Dalian Penghong Floor Products Co., Ltd., Preliminary Affiliation and Single Entity Memorandum” dated December 20, 2016.

Verification

As provided in section 782(i) of the Act, the Department verified information provided by the Penghong and Senmao.¹² The Department conducted the verification using standard verification procedures including the examination of relevant sales, financial, and other records and the selection and review of original documentation containing relevant information. The results of the verification are outlined in the public version of the verification reports. The verification reports are on file electronically via ACCESS.

¹² See Memorandum to the File through Robert Bolling, Program Manager, AD/CVD Operations, Office IV, concerning, “Verification of the Questionnaire Responses of Dalian Penghong Floor Products Co., Ltd.,” dated December 05, 2016. See also Memorandum to the File through Robert Bolling, Program Manager, AD/CVD Operations, Office IV, concerning, “Verification of the Questionnaire Responses of Jiangsu Senmao Bamboo and Wood Industry Co., Ltd.,” dated December 08, 2016.

Preliminary Results of Review

The Department preliminarily finds that twenty-four companies subject to this review did not establish eligibility for a separate rate. As such, we preliminarily determine they are part of the PRC-wide entity.¹³ Because no party requested a review of the PRC-wide entity and the Department no longer considers the PRC-wide entity as an exporter conditionally subject to administrative reviews,¹⁴ we did not conduct a review of the PRC-wide entity. Thus, the rate for the PRC-wide entity is not subject to change as a result of this review.

¹³ The following companies were named in the Initiation of Antidumping and Countervailing Duty Administrative Reviews, 81 FR 6832, 6835-37 (February 9, 2016) (“First Initiation Notice”) and 81 FR 11179, 11182 (March 3, 2016) (“Second Initiation Notice”), but did not submit a certification of no shipment, separate rate application or separate rate certification; therefore they are part of the PRC-wide entity: Anhui Suzhou Dongda Wood Co., Ltd., Baiying Furniture Manufacturer Co., Ltd., Cheng Hang Wood Co., Ltd., Dalian Qianqiu Wooden Product Co., Ltd., Fusong Jinqui Wooden Product Co., Ltd., Fusong Qianqiu Wooden Products Co., Ltd., HaiLin XinCheng Wooden Products, Ltd., Hangzhou Dazhuang Floor Co., Ltd (dba Dasso Industrial Group Co., Ltd)., Hangzhou Huahi Wood Industry Co., Ltd., Huber Engineering Wood Corp., Huzhou City Nanxun Guangda Wood Co., Ltd., Huzhou Fuma Wood Co., Ltd., Jiafeng Wood (Suzhou) Co., Ltd., Qingdao Barry Flooring Co., Ltd., Shandong Kaiyuan Wood Industry Co., Ltd., Shanghai Anxin (Weiguang) Timber Co., Ltd., Shanghai Eswell Timber Co., Ltd., Shanghai New Sihe Wood Co., Ltd., Shanghai Shenlin Corporation, Vicwood Industry (Suzhou) Co. Ltd., Yixing Lion-King Timber Industry, Zhejiang AnJi XinFeng Bamboo & Wood Industry Co., Ltd., Zhejiang Desheng Wood Industry Co., Ltd., and Zhejiang Haoyun Wooden Co., Ltd.

¹⁴ See Antidumping Proceedings: Announcement of Change in Department Practice for Respondent Selection in Antidumping Duty Proceedings and Conditional Review of the Nonmarket Economy Entity in NME Antidumping Duty Proceedings, 78 FR 65963, 65969-70 (November 4, 2013).

For companies subject to this review that have established their entitlement to a separate rate, the Department preliminarily determines that the following dumping margins exist for the POR from December 1, 2014, through November 30, 2015: ¹⁵

¹⁵ In addition to the companies listed in the table, certain companies certified that they did not ship subject merchandise to the United States during the POR. The Department confirmed these certifications of no shipments with U.S. Customs and Border Protection (“CBP”); therefore, the following companies will maintain their rate from the most recent segment in which they participated: Changbai Mountain Development and Protection Zone Hongtu Wood Industrial Co., Ltd., Dalian Xinjinghua Wood Co., Ltd., Guangzhou Homebon Timber Manufacturing Co., Ltd., Henan Xingwangjia Technology Co., Ltd., Jiangsu Yuhui International Trade Co., Ltd., Shenyang Senwang Wooden Industry Co., Ltd., Xuzhou Antop International Trade Co., Ltd., Yekalon Industry Inc., Zhejiang Shuimojiangnan New Material Technology Co., Ltd.

Exporter | Weighted- average dumping margin
Dalian Penghong Floor Products Co., Ltd./Dalian Shumaike Floor Manufacturing Co., Ltd | 4.92
Jiangsu Senmao Bamboo and Wood Industry Co., Ltd | 0.22
A&W (Shanghai) Woods Co., Ltd | 4.92
Anhui Boya Bamboo & Wood Products Co., Ltd | 4.92
Anhui Longhua Bamboo Product Co., Ltd | 4.92
Baishan Huafeng Wooden Product Co., Ltd | 4.92
Benxi Wood Company | 4.92
Changzhou Hawd Flooring Co., Ltd | 4.92
Chinafloors Timber (China) Co., Ltd | 4.92
Dalian Dajen Wood Co., Ltd | 4.92
Dalian Huade Wood Product Co., Ltd | 4.92
Dalian Huilong Wooden Products Co., Ltd | 4.92
Dalian Jiahong Wood Industry Co., Ltd | 4.92
Dalian Jiuyuan Wood Industry Co., Ltd | 4.92
Dalian Kemian Wood Industry Co., Ltd | 4.92
Dalian T-Boom Wood Products Co., Ltd | 4.92
Dongtai Fuan Universal Dynamics, LLC | 4.92
Dunhua City Hongyuan Wood Industry Co., Ltd | 4.92
Dun Hua City Jisen Wood Industry Co., Ltd | 4.92
Dunhua City Wanrong Wood Industry Co., Ltd | 4.92
Dunhua City Dexin Wood Industry Co., Ltd | 4.92
Dun Hua Sen Tai Wood Co., Ltd | 4.92
Fine Furniture (Shanghai) Limited | 4.92
Fusong Jinlong Wooden Group Co., Ltd | 4.92
GTP International Ltd | 4.92
Guangdong Yihua Timber Industry Co., Ltd | 4.92
Guangzhou Panyu Kangda Board Co., Ltd | 4.92
Guangzhou Panyu Southern Star Co., Ltd | 4.92
HaiLin LinJing Wooden Products Co., Ltd | 4.92
Hangzhou Hanje Tec Co., Ltd | 4.92
Hunchun Forest Wolf Wooden Industry Co., Ltd | 4.92
Hunchun Xingjia Wooden Flooring Inc | 4.92
Huzhou Chenghang Wood Co., Ltd | 4.92
Huzhou Fulinmen Imp. & Exp. Co., Ltd | 4.92
Huzhou Jesonwood Co., Ltd | 4.92
Huzhou Sunergy World Trade Co., Ltd | 4.92
Jiangsu Guyu International Trading Co., Ltd | 4.92
Jiangsu Kentier Wood Co., Ltd | 4.92
Jiangsu Mingle Flooring Co., Ltd | 4.92
Jiangsu Simba Flooring Co., Ltd | 4.92
Jiashan HuiJiaLe Decoration Material Co., Ltd | 4.92
Jiashan On-Line Lumber Co., Ltd | 4.92
Jiaxing Hengtong Wood Co., Ltd | 4.92
Jilin Forest Industry Jinqiao Flooring Group Co., Ltd | 4.92
Jilin Xinyuan Wooden Industry Co., Ltd | 4.92
Karly Wood Product Limited | 4.92
Kember Hardwood Flooring Inc | 4.92
Kemian Wood Industry (Kunshan) Co., Ltd | 4.92
Kingman Floors Co., Ltd | 4.92
Linyi Anying Wood Co., Ltd | 4.92
Linyi Bonn Flooring Manufacturing Co., Ltd | 4.92
Linyi Youyou Wood Co., Ltd.¹⁶ | 4.92
Metropolitan Hardwood Floors, Inc | 4.92
MuDanJiang Bosen Wood Industry Co., Ltd | 4.92
Nakahiro Jyou Sei Furniture (Dalian) Co., Ltd | 4.92
Pinge Timber Manufacturing (Zhejiang) Co., Ltd | 4.92
Puli Trading Limited | 4.92
Scholar Home (Shanghai) New Material Co., Ltd | 4.92
Shanghai Lairunde Wood Co., Ltd | 4.92
Shenyang Haobainian Wooden Co., Ltd | 4.92
Shenzhenshi Huanwei Woods Co., Ltd | 4.92
Sino-Maple (JiangSu) Co., Ltd | 4.92
Suzhou Dongda Wood Co., Ltd | 4.92
Tongxiang Jisheng Import and Export Co., Ltd | 4.92
Xiamen Yung De Ornament Co., Ltd | 4.92
Xuzhou Shenghe Wood Co., Ltd | 4.92
Yingyi-Nature (Kunshan) Wood Industry Co., Ltd | 4.92
Zhejiang Biyork Wood Co., Ltd | 4.92
Zhejiang Dadongwu Green Home Wood Co., Ltd | 4.92
Zhejiang Fudeli Timber Industry Co., Ltd | 4.92
Zhejiang Fuerjia Wooden Co., Ltd | 4.92
Zhejiang Fuma Warm Technology Co., Ltd | 4.92
Zhejiang Jiechen Wood Industry Co., Ltd | 4.92
Zhejiang Longsen Lumbering Co., Ltd | 4.92
Zhejiang Shiyou Timber Co., Ltd | 4.92

¹⁶ On September 30, 2014, the Department determined that Linyi Youyou Wood Co., Ltd. is the successor-in-interest to Shanghai Lizhong Wood Products Co., Ltd./The Lizhong Wood Industry Limited Company of Shanghai. See Multilayered Wood Flooring From the People's Republic of China: Final Results of Changed Circumstances Review, 79 FR 58740 (September 30, 2014). Because Shanghai Lizhong Wood Products Co., Ltd./The Lizhong Wood Industry Limited Company of Shanghai no longer exists as a legal entity, the rate is assigned to Linyi Youyou Wood Co., Ltd.

Preliminary Partial Rescission of Antidumping Duty Administrative Review

Pursuant to 19 CFR 351.213(d)(1), the Department will rescind an administrative review, in whole or in part, if a party that requested the review withdraws its request within 90 days of the date of publication of the notice of initiation of the requested review. Jiangsu Keri Wood Co., Ltd. withdrew its respective request for an administrative review within 90 days of the date of publication of Initiation Notice.¹⁷ Accordingly, the Department is rescinding this review with respect to Jiangsu Keri Wood Co., Ltd., in accordance with 19 CFR 351.213(d)(1).¹⁸

¹⁷ See Letter from Jiangsu Keri Wood Co., Ltd. to the Department regarding “Withdrawal of Review Request” dated February 22, 2016.

¹⁸ See Appendix. As stated in Change in Practice in NME Reviews, the Department will no longer consider the non-market economy (“NME”) entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013) (“Change in Practice in NME Reviews”). The PRC-wide entity is not subject to this administrative review because no interested party requested a review of the entity. See First Initiation Notice.

With respect to Dongtai Zhangshi Wood Industry Co., Ltd. and Huzhou Muyun Wood Co., Ltd., the Department preliminarily found each of these company's one sale during the POR to be a non-bona fide sale in a concurrent new shipper review (“NSR”).¹⁹ Because the sale subject to this administrative review is the same sale preliminarily found to be a non-bona fide sale in the new shipper review, and there are no other reviewable sales by either company during the POR, we are preliminarily rescinding this review with respect to Dongtai Zhangshi Wood Industry Co., Ltd. and Huzhou Muyun Wood Co., Ltd.

¹⁹ See Multilayered Wood Flooring from the People's Republic of China: Rescission of Antidumping Duty New Shipper Reviews; 2014-2015, 81 FR 74393 (October 26, 2016).

Disclosure and Public Comment

The Department intends to disclose calculations performed for these preliminary results to the parties within five days of the date of publication of this notice.²⁰ Interested parties may submit a case brief no later than 30 days after the date of publication of these preliminary results of review.²¹ Rebuttal briefs may be filed no later than five days after the deadline for filing case briefs and may respond only to arguments raised in the case briefs.²² A table of contents, list of authorities used, and an executive summary of issues should accompany any briefs submitted to the Department.²³ This summary should be limited to five pages total, including footnotes. Interested parties who wish to request a hearing must submit a written request to the Assistant Secretary for Enforcement and Compliance, U.S. Department of Commerce, within 30 days after the date of publication of this notice.²⁴ Requests should contain the party's name, address, and telephone number, the number of participants, and a list of the issues to be discussed. If a request for a hearing is made, the Department intends to hold the hearing at the U.S. Department of Commerce, 1401 Constitution Avenue NW., Washington, DC 20230, at a time to be determined.²⁵ Parties should confirm by telephone the date, time, and location of the hearing two days before the scheduled date.

²⁰ See 19 CFR 351.224(b).

²¹ See 19 CFR 351.309(c)(1)(ii); see also 19 CFR 351.303 (for general filings requirements).

²² See 19 CFR 351.309(d).

²³ See 19 CFR 351.309(c)(2) and (d)(2).

²⁴ See 19 CFR 351.310(c).

²⁵ See 19 CFR 351.310(d).

All submissions, with limited exceptions, must be filed electronically using ACCESS. An electronically filed document must be received successfully in its entirety by 5 p.m. Eastern Time (“ET”) on the due date. Documents excepted from the electronic submission requirements must be filed manually (i.e., in paper form) with the APO/Dockets Unit in Room 1870 and stamped with the date and time of receipt by 5 p.m. ET on the due date.²⁶

²⁶ See Antidumping and Countervailing Duty Proceedings: Electronic Filing Procedures; Administrative Protective Order Procedures, 76 FR 39263 (July 6, 2011).

Unless extended, the Department intends to issue the final results of this administrative review, which will include the results of its analysis of issues raised in any briefs, within 120 days of publication of these preliminary results, pursuant to section 751(a)(3)(A) of the Act.

Assessment Rates

Upon issuance of the final results, the Department will determine, and CBP shall assess, antidumping duties on all appropriate entries covered by this review.²⁷ The Department intends to issue assessment instructions to CBP 15 days after the publication date of the final results of this review. For any individually examined respondent whose weighted-average dumping margin is above de minimis (i.e., 0.50 percent) in the final results of this review, the Department will calculate an importer- (or customer-) specific assessment rate on the basis of the ratio of the total amount of antidumping duties calculated for the importer's examined sales and the total entered value of sales, in accordance with 19 CFR 351.212(b)(1). In these preliminary results, the Department applied the assessment rate calculation method adopted in the Final Modification for Reviews.²⁸ Where either the respondent's weighted-average dumping margin is zero or de minimis, or an importer- (or customer-) specific assessment rate is zero or de minimis, we will instruct CBP to liquidate the appropriate entries without regard to antidumping duties.²⁹ We intend to instruct CBP to liquidate entries containing subject merchandise exported by the PRC-wide entity at the current rate for the PRC-wide entity (which, as noted above, is not subject to change in this review).

²⁷ See 19 CFR 351.212(b)(1).

²⁸ See Antidumping Proceeding Calculation of the Weighted-Average Dumping Margin and Assessment Rate in Certain Antidumping Duty Proceedings; Final Modification, 77 FR 8101 (February 14, 2012) (“Final Modification for Reviews”).

²⁹ See 19 CFR 351.106(c)(2).

Additionally, for the companies for which this review is rescinded, antidumping duties shall be assessed at rates equal to the cash deposit of estimated antidumping duties required at the time of entry, or withdrawal from warehouse, for consumption, in accordance with 19 CFR 351.212(c)(l)(i). The Department intends to issue appropriate assessment instructions directly to CBP 15 days after publication of this notice.

In accordance with section 751(a)(2)(C) of the Act, the final results of this review shall be the basis for the assessment of antidumping duties on entries of merchandise covered by the final results of this review and for future deposits of estimated duties, where applicable.

Cash Deposit Requirements

The following cash deposit requirements will be effective upon publication of the final results of this administrative review for shipments of the subject merchandise from the PRC entered, or withdrawn from warehouse, for consumption on or after the publication date, as provided by section 751(a)(2)(C) of the Act: (1) For the companies listed above the cash deposit rate will be their respective rate established in the final results of this review, except if the rate is zero or de minimis (i.e., less than 0.5 percent), then the cash deposit rate will be zero; (2) for previously investigated PRC and non-PRC exporters not listed above that have separate rates, the cash deposit rate will continue to be the exporter-specific rate published for the most recent period; (3) for all PRC exporters of subject merchandise which have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification to Interested Parties

We are issuing and publishing these results in accordance with sections 751(a)(1) and 777(i)(1) of the Act and 19 CFR 351.213.

Dated: December 20, 2016.
Paul Piquado,
Assistant Secretary for Enforcement and Compliance.

Appendix—List of Topics Discussed in the Preliminary Decision Memorandum

1. Summary

2. Background

3. Period of Review

4. Extension of Preliminary Results

5. Scope of the Order

6. Selection of Respondents

7. Non-Market Economy Country

8. Separate Rate

9. Rate for Non-Examined, Separate Rate Respondents

10. Preliminary Partial Rescission Of Antidumping Duty Administrative Review

11. Companies That Did Not Establish Their Eligibility for a Separate Rate

12. Surrogate Country and Surrogate Value Data

13. Date of Sale

14. Fair Value Comparisons

15. Affiliation and Single Entity Status

16. U.S. Price

17. Value Added Tax

18. Normal Value

19. Factor Valuations

20. Adjustment Under Section 777(A)(f) of the Act

21. Currency Conversion

22. Recommendation

[FR Doc. 2016-31157 Filed 12-23-16; 8:45 am]

BILLING CODE 3510-DS-P